Title 3—

The President

Proclamation 7634 of December 9, 2002

Human Rights Day, Bill of Rights Day, and Human Rights Week, 2002

By the President of the United States of America

A Proclamation

America's commitment to individual freedom and democracy provides the foundation for our society. As a Nation, we cherish the values of free speech, equal justice, and religious tolerance, and we steadfastly oppose the forces of cruelty, injustice, and tyranny. Since the founding of our country, the Bill of Rights has served to guide our people and our Government to ensure basic human rights and liberties. The United States is a country where all citizens have the opportunity to voice their opinions, practice their faith, and enjoy the blessings of freedom.

Today, countless people around the world cannot exercise their basic human rights. America has pledged to support all individuals who seek to secure their unalienable rights. Across the globe, we will continue to stand with those who fight for fundamental freedoms, whether they be democracy activists in Cuba, university faculty and students in Iran, opposition leaders in Zimbabwe, journalists in Belarus, or the people of North Korea who have never known freedom. We are leading a coalition of more than 90 nations to defeat terror and to secure liberty and opportunity for people throughout the world. Our fight against oppression demonstrates our Nation's dedication to a future of hope and understanding for all people. One year after the liberation of Afghanistan from the clutches of terror and tyranny, we are helping the Afghan people build institutions of democracy and tolerance that are essential to the country's future stability, security, and prosperity. And I hope the brave people of Iraq will soon realize their own dreams of peace and freedom.

In commemorating Human Rights Day, Bill of Rights Day, and Human Rights Week, we renew our pledge to uphold the vital principles of freedom, equality, and opportunity that have made our Nation strong. By working together to advance the rights of all people, we help to build mutual trust and peace for all individuals across this land and around the world.

NOW, THEREFORE, I, GEORGE W. BUSH, President of the United States of America, by virtue of the authority vested in me by the Constitution and laws of the United States, do hereby proclaim December 10, 2002, as Human Rights Day; December 15, 2002, as Bill of Rights Day; and the week beginning December 10, 2002, as Human Rights Week. I call upon the people of the United States to honor the legacy of human rights passed down to us from previous generations and to resolve that such liberties will prevail in our Nation and throughout the world.

IN WITNESS WHEREOF, I have hereunto set my hand this ninth day of December, in the year of our Lord two thousand two, and of the Independence of the United States of America the two hundred and twenty-seventh.

B

[FR Doc. 02-31559

Filed 12-11-02; 9:05 am]

Billing code 3195-01-P